Title 3—

The President

Proclamation 8059 of October 3, 2006

National Breast Cancer Awareness Month , 2006

By the President of the United States of America

A Proclamation

During National Breast Cancer Awareness Month, we underscore our commitment to advancing the fight against breast cancer and bringing hope to those affected by this deadly disease.

Breast cancer remains the second leading cause of cancer deaths among American women, and both men and women should be aware that age, obesity, genetics, and family history are factors that can contribute to the risk of developing this disease. Individuals may help reduce their personal risk of breast cancer through regular exercise and healthy lifestyle choices. Also, regular self-exams, clinical breast exams, and mammograms are vital since treatments are most effective when breast cancer is detected early.

Our Nation is making advances in the detection and treatment of breast cancer, and my Administration is committed to continuing this progress. In fiscal year 2007, the Department of Health and Human Services will spend nearly $844 million on breast cancer research and prevention activities. In addition, the Federal Government is promoting breast cancer screening services for low-income and uninsured women through outreach activities and educational materials.

Throughout our Nation, compassionate citizens provide love and encouragement to individuals living with breast cancer and their loved ones. Survivors of this disease show the world that life after breast cancer can be a reality, and we must continue to support these individuals and their families. Through medical advances, preventative programs, and quality health care, we can continue to make significant strides in the fight against this devastating disease and provide a brighter future for many Americans.

NOW, THEREFORE, I, GEORGE W. BUSH, President of the United States, by virtue of the authority vested in me by the Constitution and laws of the United States, do hereby proclaim October 2006 as National Breast Cancer Awareness Month. I call upon Government officials, businesses, communities, health care professionals, educators, volunteers, and all the people of the United States to continue our Nation's strong commitment to preventing and treating breast cancer and to finding a cure for this disease.

IN WITNESS WHEREOF, I have hereunto set my hand this third day of October, in the year of our Lord two thousand six, and of the Independence of the United States of America the two hundred and thirty-first.

[FR Doc. 06-8558

Filed 10-4-06; 11:47 am]

Billing code 3195-01-P